DEPARTMENT OF AGRICULTURE

Forest Service

Notice of New Fee Sites

AGENCY: Sheyenne National Grassland, Dakota Prairie Grasslands, USDA Forest Service.

ACTION: Notice of new fee sites.

SUMMARY: The Sheyenne National Grassland is proposing to charge a $10 per night fee at the newly constructed Jorgen's Hollow Campground. Funds generated at the site will be used for the operation and maintenance, upkeep of facilities, and improvements as feasible. This fee is only proposed and will be determined upon further analysis and public comment.

DATES: Send any comments about these fee proposals by June 26, 2017 so comments can be compiled, analyzed, and shared with the Bureau of Land Management (BLM) Dakotas Resource Advisory Council (RAC). The effective date of implementation of proposed new fee will be no earlier than six months after publication of this notice.

ADDRESSES: Documents concerning this proposed fee may be reviewed at the Sheyenne Ranger District Office, 1601 Main Street, Lisbon, ND 58054. Written Comments may be delivered to the same address, or mailed to P.O. Box 946, Lisbon, ND 58504; faxed to (701) 683-6816; or emailed to FS-comments-northern-dakota-prairie-sheyenne-river@fs.fed.us with “Jorgen's Hollow Campground Fee Proposal” referenced in the subject line.

FOR FURTHER INFORMATION CONTACT: Rob Schilling, at (701) 227-7837 or mail to 99 23rd Ave. W., Suite B, Dickinson, ND 58601. Persons who use a telecommunications device for the deaf (TDD) may call the Federal Information Relay Service (FIRS) at 1-800-877-8339 to contact Rob Schilling during normal business hours. The FIRS is available 24 hours a day, seven days a week, to leave a message or question with the above individual. You will receive a reply during normal business hours. More information about this fee proposal is available on the Dakota Prairie National Grasslands' Web site at https://www.fs.usda.gov/news/dpg/news-events.

SUPPLEMENTARY INFORMATION: The Federal Recreation Lands Enhancement Act (Title VII, P.L. 108-447) directed the Secretary of Agriculture to publish a six month advance notice in the Federal Register whenever new recreation fee areas are established.

Once public involvement is complete, the proposal will be reviewed by the BLM Dakotas Resource Advisory Council prior to a final decision and implementation.

Jorgen's Hollow Campground is a destination campground for people visiting the Sheyenne National Grassland near Lisbon, North Dakota. The proposed fee for individual campsites are $10 per night; free dispersed camping would no longer be available at Jorgen's Hollow Campground. A market analysis of surrounding recreation sites with similar amenities indicates that the proposed fees are comparable and reasonable.

Dated: April 12, 2017.
Glenn Casamassa,
Associate Deputy Chief, National Forest System.

[FR Doc. 2017-10951 Filed 5-25-17; 8:45 am]

BILLING CODE 3411-15-P